DEPARTMENT OF THE INTERIOR

National Park Service

Minor Boundary Revision at Minidoka National Historic Site

AGENCY: National Park Service, Interior.

ACTION: Notification of boundary revision.

SUMMARY: Notice is hereby given that, pursuant to 16 U.S.C. 460l-9(c)(1), the boundary of Minidoka National Historic Site is modified to include an additional nine acres of land identified as Tract 01-106, tax parcel number RP08S19E329980A. The land is located in Jerome County, Idaho, immediately adjacent to the current western boundary of Minidoka National Historic Site. The boundary revision is depicted on Map No. 914/80,006 dated June 2010. The map is available for inspection at the following locations: National Park Service, Columbia Cascades Land Resources Program Center, 168 South Jackson Street, Seattle, WA 98104 and National Park Service, Department of the Interior, Washington, DC 20240.

FOR FURTHER INFORMATION CONTACT: National Park Service, Chief, Columbia Cascades Land Resources Program Center, 168 South Jackson Street, Seattle, Washington 98104, (206) 220-4100.

DATES: The effective date of this boundary revision is October 22, 2010.

SUPPLEMENTARY INFORMATION: 16 U.S.C. 460l-9(c)(1) provides that, after notifying the House Committee on Natural Resources and the Senate Committee on Energy and Natural Resources, the Secretary of the Interior is authorized to make this boundary revision upon publication of notice in the Federal Register. The Committees have been notified of this boundary revision. Inclusion of these lands within the park boundary will enable the landowner to sell the subject land to the National Park Service. The inclusion and acquisition of this property will enable the Service to relocate the original barracks onto the property and thereby more accurately interpret the events that took place during the Japanese-American internment from 1942 to 1945. Additionally, the boundary revision will provide protection of historic physical features and remnants of buildings located on the property.

Dated: October 5, 2010.
Cynthia L. Ip,
Acting Regional Director, Pacific West Region.

[FR Doc. 2010-26730 Filed 10-21-10; 8:45 am]

BILLING CODE 4312-DC-P